DEPARTMENT OF HEALTH AND HUMAN SERVICES

National Institutes of Health

National Institute on Alcohol Abuse and Alcoholism; Notice of Closed Meeting

Pursuant to section 1009 of the Federal Advisory Committee Act, as amended, notice is hereby given of a meeting of the Board of Scientific Counselors, National Institute on Alcohol Abuse and Alcoholism.

The meeting will be closed to the public as indicated below in accordance with the provisions set forth in section 552b(c)(6), Title 5 U.S.C., as amended for the review, discussion, and evaluation of individual intramural programs and projects conducted by the National Institute on Alcohol Abuse and Alcoholism, including consideration of personnel qualifications and performance, and the competence of individual investigators, the disclosure of which would constitute a clearly unwarranted invasion of personal privacy.

Name of Committee: Board of Scientific Counselors, National Institute on Alcohol Abuse and Alcoholism.

Date: October 20-21, 2025.

Time: 11:00 a.m. to 4:30 p.m.

Agenda: To review and evaluate personnel qualifications and performance, and competence of individual investigators.

Address: National Institutes of Health, National Institute on Alcohol Abuse and Alcoholism, 6700B Rockledge Drive, Bethesda, MD 20817.

Meeting Format: Virtual Meeting.

Contact Person: David Lovinger, Ph.D., Scientific Director, Laboratory for Integrative Neuroscience Section on Synaptic Pharmacology, National Institute of Alcohol Abuse and Alcoholism, 5625 Fishers Lane, Room TS-11, Rockville, MD 20852, (301) 443-2445, lovindav@mail.nih.gov.

Information is also available on the Institute's/Center's home page: https://www.niaaa.nih.gov/research/division-intramural-clinical-and-biological-research/office-scientific-director, where an agenda and any additional information for the meeting will be posted when available.

(Catalogue of Federal Domestic Assistance Program Nos. 93.271, Alcohol Research Career Development Awards for Scientists and Clinicians; 93.272, Alcohol National Research Service Awards for Research Training; 93.273, Alcohol Research Programs; 93.891, Alcohol Research Center Grants, National Institutes of Health, HHS)

Zieta M. Charles,
Program Analyst, Office of Federal Advisory Committee Policy.

[FR Doc. 2025-19021 Filed 9-29-25; 8:45 am]

BILLING CODE 4140-01-P